DEPARTMENT OF LABOR

Employment and Training Administration

Workforce Investment Act; Migrant and Seasonal Farmworker Employment and Training Advisory Committee: Solicitation of Nominees To Fill Vacancies on the Migrant and Seasonal Farmworker Employment and Training Advisory Committee (the Committee)

Pursuant to the Committee Charter and the Federal Register Notice dated October 23, 1998, notice is hereby given to fill nine vacancies on the Committee.

Background: On October 23, 1998, notice was given in the Federal Register listing the membership of the Committee. These appointments became effective on October 19, 1998. The Committee charter provides for two year staggered terms. The Secretary of Labor appointed the following persons to a two year term which will expire on October 18, 2000: (1) Mr. Robert Ozuna, Washington State Migrant Council-Resigned-Replaced by Mr. Gilberto Alaniz, Program Director, Opportunities Industrialization Center, Yakima, Washington; (2) Ms. Ella Ochoa, Executive Director, NAF Multicultural Human Development Corporation, North Platte, Nebraska; (3) Ms. Terry Meek, Executive Director, Proteus, Inc., Des Moines, Iowa; (4) Mr. Clevon Young, Executive Director, Arkansas Human Development Corporation, Little Rock, Arkansas; (5) Mr. Carlos R. Saavedra, Director, Adult Migrant Program and Services, Florida Department of Education, Tampa, Florida; (6) Ms. Barbara Coleman, State Director, Telamon Corporation; Columbia, South Carolina; (7) Mr. Baldemar Valasquez, Farm Labor Organizing Committee-Resigned-Replaced by-Mr. Lupe Martinez, Executive Director, United Migrant Opportunity Services. Milwaukee, Wisconsin; (8) Cipriano Garza, Director Migrant Education Program, Miami/Dade County Public Schools, Homestead, Florida; and (9) Ms. L. Diane Mull, Executive Director, Association of Farmworker Opportunity Programs, Arlington, Virginia. These nine appointments consist of six representatives from the National Farmworker Jobs Program (NFJP) grantee community and three representatives from organizations, associations and other Federal agencies with expertise relative to Migrant and seasonal farmworkers.

Policy: The Secretary of Labor is authorized to appoint approximately fifteen initial members to establish the Committee. Twelve of the members must be representatives from the NFJP grantee community with field experience in the daily operation and administration of migrant and seasonal farmworker programs. The remaining three representatives from organizations, associations, or other Federal agencies, with expertise relative to migrant and seasonal farmworkers, will be appointed directly by the Secretary of Labor. For the purpose of this Solicitation, six individuals will be selected from nominations from the NFJP grantee community; and up to three individuals will be appointed directly by the Secretary. The Committee currently consists of eighteen members, of which thirteen are representatives from the NFJP grantee community and five representatives from organizations, associations, or other Federal Agencies, with expertise relative to migrant and seasonal farmworkers.

Requested Action: NFJP grantees are requested to nominate individuals associated with a NFJP program who possess knowledge of the daily operation and administration of such programs and is representative of the regional area where the up-coming vacancies will occur. Additionally, nominations are requested for individuals outside of the NFJP grantee community from organizations, associations, or Federal agencies, with expertise relative to migrant and seasonal farmworkers. Those members listed above, whose terms expire in October, 2000, may be nominated in consideration for reappointment. In submitting nominations, nominators should consider the willingness of the nominee to attend and participate actively in Committee meetings, seek NFJP grantee input on critical issues, serve on Committee workgroups, and provide feedback to the NFJP grantee community. Effectiveness at communications between the Committee members and the NFJP grantee community and its constituency is vital to the continued development of the NFJP partnership under the Federal Advisory Committee structure. Nominations must provide the following information: Nominee's Name, Affiliation and Address; Nominator's Name, Affiliation and Address.

Committee nominations must be submitted in writing to: James Deluca, Acting Director, Office of National Programs, U.S. Department of Labor, Employment and Training Administration, 200 Constitution Avenue, NW. Room N-4641, Washington, DC 20210. All nominations submitted must be U.S. postmarked no later than August 31, 2000.

For Further Information Contact: Alicia Fernandez-Mott, Chief, Division of Seasonal Farmworker Programs, Office of National Programs, U.S. Department of Labor, Employment and Training Administration, 200 Constitution Avenue, NW. Room N-4641, Washington, DC 20210, Telephone: (202) 219-5500.

Signed at Washington, DC this 7th Day of August, 2000.
James Deluca,
Acting Director, Office of National Programs.

[FR Doc. 00-20817 Filed 8-15-00; 8:45 am]

BILLING CODE 4510-30-M